DEPARTMENT OF HEALTH AND HUMAN SERVICES

National Institutes of Health

Availability of Draft National Toxicology Program Technical Reports; Request for Comments; Notice of Meeting

SUMMARY: The National Toxicology Program (NTP) announces the availability of four draft NTP Technical Reports (TRs) scheduled for peer review: vinylidene chloride, cobalt metal dust, tetrabromobisphenol A (TBBPA), and glycidamide. The draft TRs should be available by September 20, 2013, at http://ntp.niehs.nih.gov/go/36051. The peer-review meeting is open to the public and preregistration is requested for both public attendance and comment. Information about the meeting and registration are available at http://ntp.niehs.nih.gov/go/36051.

DATES:

Meeting: October 29, 2013, 8:30 a.m. to approximately 5:00 p.m. Eastern Daylight Time (EDT).

Document Availability: Draft TRs should be available by September 20, 2013, at http://ntp.niehs.nih.gov/go/36051.

Public Comments Submissions: Deadline is October 15, 2013.

Pre-Registration for Meeting and/or Oral Comments: Deadline is October 25, 2013.

ADDRESSES: Meeting Location: Rodbell Auditorium, Rall Building, NIEHS, 111 T.W. Alexander Drive, Research Triangle Park, NC 27709.

Meeting Web page: The draft TRs, preliminary agenda, registration, and other meeting materials are at http://ntp.niehs.nih.gov/go/36051.

Webcast: The meeting will be available via webcast at http://www.niehs.nih.gov/news/video/index.cfm.

FOR FURTHER INFORMATION CONTACT: Dr. Lori White, NTP Designated Federal Official, Office of Liaison, Policy and Review, DNTP, NIEHS, P.O. Box 12233, MD K2-03, Research Triangle Park, NC 27709. Phone: (919) 541-9834, Fax: (301) 480-3272, Email: whiteld@niehs.nih.gov. Hand Delivery/Courier: 530 Davis Drive, Room 2136, Morrisville, NC 27560.

SUPPLEMENTARY INFORMATION: Meeting and Registration: The meeting is open to the public with time set aside for oral public comment; attendance at the NIEHS is limited only by the space available. Pre-registration to attend the meeting and/or provide oral comments is by October 25, 2013, at http://ntp.niehs.nih.gov/go/36051. Visitor and security information for those attending in person is available at http://www.niehs.nih.gov/about/visiting/index.cfm. Individuals with disabilities who need accommodation to participate in this event should contact Dr. Yun Xie at phone: (919) 541-3436 or email: yun.xie@nih.gov. TTY users should contact the Federal TTY Relay Service at (800) 877-8339. Requests should be made at least five business days in advance of the event.

The preliminary agenda and draft TRs should be posted on the NTP Web site (http://ntp.niehs.nih.gov/go/36051) by September 20, 2013. Additional information will be posted when available or may be requested in hardcopy, see FOR FURTHER INFORMATION CONTACT. Following the meeting, a report of the peer review will be prepared and made available on the NTP Web site. Registered attendees are encouraged to access the meeting Web page to stay abreast of the most current information regarding the meeting.

Request for Comments: The NTP invites written and oral public comments on the draft TRs. The deadline for submission of written comments is October 15, 2013, to enable review by the peer-review panel and NTP staff prior to the meeting. Pre-registration to provide oral comments is by October 25, 2013, at http://ntp.niehs.nih.gov/go/36051. Public comments and any other correspondence on the draft TRs should be sent to the FOR FURTHER INFORMATION CONTACT. Persons submitting written comments should include their name, affiliation, mailing address, phone, email, and sponsoring organization (if any) with the document. Written comments received in response to this notice will be posted on the NTP Web site, and the submitter will be identified by name, affiliation, and/or sponsoring organization.

Public comment at this meeting is welcome, with time set aside for the presentation of oral comments on the draft TRs. In addition to in-person oral comments at the meeting at the NIEHS, public comments can be presented by teleconference line. There will be 50 lines for this call; availability will be on a first-come, first-served basis. The lines will be open from 8:30 a.m. until approximately 5:00 p.m. EDT on October 29, although oral comments will be received only during the formal public comment periods indicated on the preliminary agenda. The access number for the teleconference line will be provided to registrants by email prior to the meeting. Each organization is allowed one time slot. At least 7 minutes will be allotted to each speaker, and if time permits, may be extended to 10 minutes at the discretion of the chair.

Persons wishing to make an oral presentation are asked to register online at http://ntp.niehs.nih.gov/go/36051 by October 25, 2013, and indicate whether they will present comments in-person or via the teleconference line, and indicate the TRs on which they plan to comment. If possible, oral public commenters should send a copy of their slides and/or statement or talking points at that time. Written statements can supplement and may expand the oral presentation. Registration for oral comments will also be available at the meeting, although time allowed for presentation by on-site registrants may be less than that for pre-registered speakers and will be determined by the number of speakers who register on-site.

Background Information on NTP Peer Review Panels: NTP panels are technical, scientific advisory bodies established on an “as needed” basis to provide independent scientific peer review and advise the NTP on agents of public health concern, new/revised toxicological test methods, or other issues. These panels help ensure transparent, unbiased, and scientifically rigorous input to the program for its use in making credible decisions about human hazard, setting research and testing priorities, and providing information to regulatory agencies about alternative methods for toxicity screening. The NTP welcomes nominations of scientific experts for upcoming panels. Scientists interested in serving on an NTP panel should provide a current curriculum vitae to the FOR FURTHER INFORMATION CONTACT. The authority for NTP panels is provided by 42 U.S.C. 217a; section 222 of the Public Health Service (PHS) Act, as amended. The panel is governed by the Federal Advisory Committee Act, as amended (5 U.S.C. Appendix 2), which sets forth standards for the formation and use of advisory committees.

Dated: August 28, 2013.
John R. Bucher,
Associate Director, National Toxicology Program.

[FR Doc. 2013-21405 Filed 9-3-13; 8:45 am]

BILLING CODE 4140-01-P